DEPARTMENT OF HEALTH AND HUMAN SERVICES

Centers for Disease Control and Prevention

[60Day-20-1227; Docket No. CDC-2020-0097]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other Federal agencies the opportunity to comment on a proposed and/or continuing information collection, as required by the Paperwork Reduction Act of 1995. This notice invites comment on a proposed revision to an information collection project titled “Assessment of Ill Worker Policies Study.” The study will examine whether an educational intervention has an effect on restaurants either developing or expanding their ill worker management policies.

DATES: CDC must receive written comments on or before November 13, 2020.

ADDRESSES: You may submit comments, identified by Docket No. CDC-2020-0097 by any of the following methods:

• Federal eRulemaking Portal: Regulations.gov. Follow the instructions for submitting comments.

• Mail: Jeffrey M. Zirger, Information Collection Review Office, Centers for Disease Control and Prevention, 1600 Clifton Road NE, MS-D74, Atlanta, Georgia 30329.

Instructions: All submissions received must include the agency name and Docket Number. CDC will post, without change, all relevant comments to Regulations.gov.

Please note: Submit all comments through the Federal eRulemaking portal (regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS-D74, Atlanta, Georgia 30329; phone: 404-639-7118; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

5. Assess information collection costs.

Proposed Project

Assessment of Ill Worker Policies Study (OMB Control No. 0920-1227, Exp. 05/31/2021)—Revision—National Center for Environmental Health (NCEH), Centers for Disease Control and Prevention (CDC).

Background and Brief Description

The CDC is requesting a three-year Paperwork Reduction Act (PRA) clearance for a Revision to an information collection request (ICR) for a research program focused on identifying the environmental causes of foodborne illness and improving environmental public health practice. This research program is conducted by the Environmental Health Specialists Network (EHS-Net), a collaborative project of the CDC, U.S. Food and Drug Administration (FDA), U.S. Department of Agriculture (USDA), and eight state and local public health programs (California; Tennessee; Minnesota; Rhode Island; New York; New York City, NY; Southern Nevada Health District, NV; and Harris County, TX).

This ICR aims to assess whether an educational intervention will result in either the development or enhancement of restaurant ill worker policies. This will be accomplished by interviewing restaurant managers, surveying workers, and observing restaurant practices in 320 randomly selected and assigned restaurants in the EHS-Net catchment area. Burden hours would be associated with the restaurant staff for the time to answer questions about their restaurant. There would be two to three site visits depending upon which group the restaurants were assigned to, that is, the intervention or the control group. An initial visit will be used to observe baseline conditions and to provide the intervention only to the restaurants selected to receive it. A second visit will be used to determine if the policies had changed and to introduce the intervention to the control restaurants (if it is deemed successful), and a final follow up visit to the control restaurants that received the intervention on the second visit.

Although approved in 2018, NCEH and its program partners needed to prioritize other data collections over this study, and then had to delay the current study due to the COVID-19 pandemic. NCEH partners provided feedback to refine this research protocol, revise the ICR, and plan to begin this study in 2021. NCEH is requesting approval for revisions which fall into three categories: (1) Changes to comply with the 2018 Revised Common Rule and 21st Century Cures Act; (2) changes to strengthen the study, based on recent experience and stakeholder feedback; and (3) changes to respond to the COVID-19 pandemic.

NCEH is requesting a revised PRA clearance for 715 responses per year and for a time burden of 206 hours per year. These changes result in a decrease of 1,412 responses and 146 hours per year relative to the 2018 PRA clearance. There is no cost to the respondents other than their time.

Estimated Annualized Burden Hours
Type of respondent | Form name | Number of respondents | Number of responses per respondent | Average burden per response (in hr) | Total burden (in hr)
Restaurant Managers (Intervention Restaurants) | Manager Recruiting Script | 119 | 1 | 3/60 | 6
Manager Informed Consent and Interview Form | 53 | 2 | 20/60 | 35
Restaurant Managers (Control Restaurants) | Manager Recruiting Script | 119 | 1 | 3/60 | 6
Manager Informed Consent and Interview Form | 53 | 3 | 20/60 | 53
Health Department Workers (Intervention Restaurants) | Restaurant Environment Observation Form | 53 | 2 | 30/60 | 53
Health Department Workers (Control Restaurants) | Restaurant Environment Observation Form | 53 | 2 | 30/60 | 53
Total |  |  |  |  | 206

Jeffrey M. Zirger,
Lead, Information Collection Review Office, Office of Scientific Integrity, Office of Science, Centers for Disease Control and Prevention.

[FR Doc. 2020-20215 Filed 9-11-20; 8:45 am]

BILLING CODE 4163-18-P